DEPARTMENT OF COMMERCE

Submission for OMB Review; Comment Request

The Department of Commerce will submit to the Office of Management and Budget (OMB) for clearance the following proposal for collection of information under the provisions of the Paperwork Reduction Act (44 U.S.C. chapter 35).

Agency: Bureau of Economic Analysis (BEA).

Title: Annual Survey of Foreign Direct Investment in the United States.

OMB Control Number: 0608-0034.

Form Number(s): BE-15.

Type of Request: Regular submission.

Number of Respondents: 3,650 annually.

Average Hours per Response: 18.8 hours is the average, but may vary considerably among respondents because of differences in company size and complexity.

Estimated Total Annual Burden Hours: 68,750.

Needs and Uses: The Annual Survey of Foreign Direct Investment in the United States (Form BE-15) obtains sample data on the financial structure and operations of U.S. affiliates of foreign investors. The data are needed to provide reliable, useful, and timely measures of foreign direct investment in the United States, assess its impact on the U.S. economy, and based upon this assessment, make informed policy decisions regarding foreign direct investment in the United States. The data are used to derive annual estimates of the operations of U.S. affiliates of foreign investors, including their balance sheets; income statements; property, plant, and equipment; employment and employee compensation; merchandise trade; sales of goods and services; taxes; and research and development activity. In addition, data covering employment are collected by state. The data are also used to update similar data for the universe of U.S. affiliates collected once every five years on the BE-12 benchmark survey.

No changes in the data collected or in exemption levels are proposed.

The BE-15 annual survey is sent to potential respondents in March of each year. A completed report covering a reporting company's fiscal year ending during the previous calendar year is due by May 31. Reports must be filed by every U.S. business enterprise that is owned 10 percent or more by a foreign investor and that has total assets, sales or gross operating revenues, or net income (or loss) of over $40 million.

As an alternative to filing paper forms, BEA will offer an electronic filing option, its eFile system, for use in reporting on Form BE-15. For more information about eFile, go to http://www.bea.gov/efile.

Potential respondents are those U.S. business enterprises that reported in the 2007 benchmark survey of foreign direct investment in the United States, along with businesses that subsequently entered the direct investment universe. The BE-15 is a sample survey, as described; universe estimates are developed from the reported sample data.

Affected Public: Business or other for-profit organizations.

Frequency: Annual.

Respondent's Obligation: Mandatory.

OMB Desk Officer: Paul Bugg, (202) 395-3093.

Copies of the above information collection proposal can be obtained by calling or writing Diana Hynek, Departmental Paperwork Clearance Officer, (202) 482-0266, Department of Commerce, Room 6616, 14th and Constitution Avenue, NW., Washington, DC 20230, or via e-mail at dhynek@doc.gov.

Written comments and recommendations for the proposed information collection should be sent within 30 days of publication of this notice to Paul Bugg, OMB Desk Officer, Fax number (202) 395-7245, or via e-mail at pbugg@omb.eob.gov.

Dated: June 2, 2011.
Glenna Mickelson,
Management Analyst, Office of Chief Information Officer.

[FR Doc. 2011-14004 Filed 6-7-11; 8:45 am]

BILLING CODE 3510-06-P